SUSQUEHANNA RIVER BASIN COMMISSION

Commission Meeting

AGENCY: Susquehanna River Basin Commission.

ACTION: Notice.

SUMMARY: The Susquehanna River Basin Commission will conduct its regular business meeting on September 15, 2022 in Baltimore, Maryland. Details concerning the matters to be addressed at the business meeting are contained in the SUPPLEMENTARY INFORMATION section of this notice. Also the Commission published a document in the Federal Register on July 12, 2022, concerning its public hearing on August 11, 2022, in Harrisburg, Pennsylvania.

DATES: The meeting will be held on Thursday, September 15, 2022, at 9 a.m.

ADDRESSES: This public meeting will be conducted in person and digitally from the Caracas Room, Kimpton Hotel Monaco Baltimore at 2 North Charles Street, Baltimore, Maryland 21201.

FOR FURTHER INFORMATION CONTACT: Jason E. Oyler, General Counsel and Secretary to the Commission, telephone: 717-238-0423; fax: 717-238-2436.

SUPPLEMENTARY INFORMATION: The business meeting will include actions or presentations on the following items: (1) adoption of a revised Civil Penalty Matrix and a revised Policy and Guidance Statement for the Settlement of Civil Penalties/Enforcement Actions; (2) adoption of the Commission's Fiscal Year 2024 Budget; (3) adoption of member jurisdictions allocation for FY2024; (4) approval of contracts, grants and agreements; (5) and actions on 20 regulatory program projects.

This agenda is complete at the time of issuance, but other items may be added, and some stricken without further notice. The listing of an item on the agenda does not necessarily mean that the Commission will take final action on it at this meeting. When the Commission does take final action, notice of these actions will be published in the Federal Register after the meeting. Any actions specific to projects will also be provided in writing directly to project sponsors.

The meeting will be conducted both in person at the U.S. Army Corps of Engineers, Baltimore District headquarters and digitally. The public is invited to attend the Commission's business meeting. You can access the Business Meeting through a computer (Audio and Video) by following the link: https://srbc.webex.com/srbc/j.php?MTID=m296635b23fd682a18bc26d79257993b5 then enter meeting number 177 385 1780 and password CommBusMtg0915. You may also participant telephonically by dialing 1-877-668-4493 and entering the meeting number 177 385 1780 followed by the # sign.

Written comments pertaining to items on the agenda at the business meeting may be mailed to the Susquehanna River Basin Commission, 4423 North Front Street, Harrisburg, Pennsylvania 17110-1788, or submitted electronically through www.srbc.net/about/meetings-events/business-meeting.html. Such comments are due to the Commission on or before August 22, 2022. Comments will not be accepted at the business meeting noticed herein.

Authority: Pub. L. 91-575, 84 Stat. 1509 et seq., 18 CFR parts 806, 807, and 808.

Dated: August 12, 2022.
Jason E. Oyler,
General Counsel and Secretary to the Commission.

[FR Doc. 2022-17700 Filed 8-16-22; 8:45 am]

BILLING CODE 7040-01-P